FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicant:

Delta Express Freight Service, Inc., 550 W. Patrice Place, #A, Gardena, CA 90248. Officer: David Y. Kim, President, (Qualifying Individual).

Non-Vessel Operating Common Carrier and Ocean Freight Forwarder Transportation Intermediary Applicants:

SeamAir Global Logistics, Inc., 2155 NW. 79th Avenue, Miami, FL 33122. Officers: Jaime A. Rivera, Vice President; (Qualifying Individual); Jaime W. Pozo, President.

UFO International Freight Forwarder Corporation, 9601 Bolsa Avenue, Westminster, CA 92683. Officers: Kim Nguyen Pham, President, (Qualifying Individual); Khanh Qocc Nguyen, Vice President.

Nova Logistics Inc., 10302 NW. So. River Dr., Bay #9, Miami, FL 33178. Officers: Gloria Isel Echegaray, Director, (Qualifying Individual); Luz Divina Moreno, Director.

Ocean Freight Forwarder—Ocean Transportation Intermediary Applicant:

American Consultative Logistics dba ACL, 806 Cornell Road, Franklin Square, NY 11010. Elizabeth M. Gibson, Sole Proprietor.

Dated: September 20, 2002.
Bryant L. VanBrakle,
Secretary.

[FR Doc. 02-24351 Filed 9-24-02; 8:45 am]

BILLING CODE 6730-01-P